DEPARTMENT OF DEFENSE

Office of the Secretary

Defense Science Board; Notice of Advisory Committee Meetings

AGENCY: Department of Defense.

ACTION: Notice of Advisory Committee Meetings.

SUMMARY: The Defense Science Board (DSB) and the 2016 DSB Summer Study Task Force on Capabilities for Constrained Military Operations (“the Summer Study Task Force”) will meet in closed session.

DATES: August 15-19 and 22-24, 2016, from 8:30 a.m. to 5:00 p.m.; August 25, 2016, from 7:00 a.m. to 5:00 p.m.; and August 26, 2016, from 8:00 a.m. to 12:00 p.m.

ADDRESSES: Arnold and Mabel Beckman Center, 100 Academy Drive, Irvine, CA 92617.

FOR FURTHER INFORMATION CONTACT: Ms. Debra Rose, Executive Officer, Defense Science Board, 3140 Defense Pentagon, Room 3B888A, Washington, DC 20301-3140, via email at debra.a.rose20.civ@mail.mil, or via phone at (703) 571-0084.

SUPPLEMENTARY INFORMATION:

These meetings are being held under the provisions of the Federal Advisory Committee Act (FACA) of 1972 (5 U.S.C., Appendix, as amended), the Government in the Sunshine Act of 1976 (5 U.S.C. 552b, as amended), and 41 CFR 102-3.150.

Due to circumstances beyond the control of the Designated Federal Officer and the Department of Defense, the Defense Science Board (DSB) was unable to provide the 15-calendar day public notification of subcommittee meetings of the 2016 DSB Summer Study Task Force on Capabilities for Constrained Military Operations scheduled for August 15 through August 19, 2016; August 22 through August 24, 2016; August 25, 2016; and August 26, 2016, at the Arnold and Mabel Beckman Center, 100 Academy Drive, Irvine, California. Accordingly, the Advisory Committee Management Officer for the Department of Defense, pursuant to 41 CFR 102-3.150(b), waives the 15-calendar day notification requirement for each meeting—August 15 through August 19, 2016; August 22 through August 24, 2016; August 25, 2016; and August 26, 2016.

The mission of the Defense Science Board is to advise the Secretary of Defense and the Under Secretary of Defense for Acquisition, Technology, and Logistics on scientific and technical matters as they affect the perceived needs of the Department of Defense. The objective of the 2016 Summer Study on Capabilities for Constrained Military Operations is to assess the military planning, shaping, and operational activities that address potential threats to U.S. interests and strive to establish stability in critical regions of the world that do not rise to the level of full-scale military operations. Areas of consideration will include an assessment of current planning processes within Department of Defense (DoD) Policy, the Joint Chiefs of Staff, Combatant Commands, and the Intelligence Community with a focus on the period before significant hostilities begin.

In accordance with section 10(d) of the FACA and 41 CFR 102-2.155, the DoD has determined that the DSB meetings will be closed to the public. Specifically, the Under Secretary of Defense (Acquisition, Technology, and Logistics), in consultation with the DoD Office of General Counsel, has determined in writing that all sessions will be closed to the public because matters covered by 5 U.S.C. 552b(c)(1) will be considered. The determination is based on the consideration that it is expected that discussions throughout will involve classified matters of national security concern. Such classified material is so intertwined with the unclassified material and non-proprietary information that it cannot reasonably be segregated into separate discussions without defeating the effectiveness and meaning of the overall meetings. To permit the meetings to be open to the public would preclude discussion of such matters and would greatly diminish the ultimate utility of the DSB's findings or recommendations to the Secretary of Defense and to the Under Secretary of Defense for Acquisition, Technology and Logistics.

In accordance with section 10(a)(3) of the FACA and 41 CFR 102-3.105(j) and 102-3.140, interested persons may submit a written statement for consideration by the Defense Science Board at any time regarding its mission or in response to the stated agenda of a planned meetings. Individuals submitting a written statement may submit their statement to the Designated Federal Official at the address detailed in FOR FURTHER INFORMATION CONTACT; at any point, however, if a written statement is not received by August 24, 2016, then it may not be provided to or considered by the Defense Science Board. The Designated Federal Official will review all submissions with the Defense Science Board Chairperson, and ensure they are provided to members of the Defense Science Board before its final deliberations on August 26, 2016.

Dated: August 17, 2016.
Aaron Siegel,
Alternate OSD Federal Register Liaison Officer, Department of Defense.

[FR Doc. 2016-19980 Filed 8-19-16; 8:45 am]

BILLING CODE 5001-06-P